DEPARTMENT OF DEFENSE

Department of the Army; Corps of Engineers

Availability for the Draft Feasibility Report and Environmental Impact Statement/Environmental Impact Report for the Hamilton City Flood Damage Reduction and Ecosystem Restoration, Glenn County, CA

AGENCY: Department of the Army, U.S. Army Corps of Engineers, DoD.

ACTION: Notice of availability.

SUMMARY: The U.S. Army Corps of Engineers (Corps), in coordination with The Reclamation Board of the State of California and the Hamilton City Community Services District, have prepared a Draft Feasibility Report and Environmental Impact Statement/Environmental Impact Report (DFR/DEIS-EIR) for the Hamilton City Community Flood Damage Reduction and Ecosystem Restoration, Glenn County, CA.

DATES: The DFR/DEIS-EIR is being made available for a 45-day public comment period. All comments should be submitted on or before May 17, 2004.

ADDRESSES: Send written comments to U.S. Army Corps of Engineers, Sacramento District, ATTN: Mrs. Erin Taylor/Environmental Analysis Section, 1325 J Street, Sacramento, CA 95814-2922.

FOR FURTHER INFORMATION CONTACT: To obtain additional information related to this report, interested persons are invited to contact the following: Mrs. Erin Taylor, Environmental Manager. U.S. Army Corps of Engineers, 1225 J Street, Sacramento, CA 95814-2922, (916) 557-5140 or fax (916) 557-7202, e-mail compstudy@usace.army.mil.

SUPPLEMENTARY INFORMATION: 1. Report Availability. Printed copies of the DFR/EIS-EIR are available for public inspection and review at the following locations:

a. U.S. Army Corps of Engineers, Sacramento District, 1325 J Street, Sacramento, CA 95814-2922.

b. Hamilton City Library, Reference Section, P.O. Box 1055, Hamilton City, CA 95951-1055.

C. Bayliss Library, Reference Section, 7830 County Road 39, Glenn, CA 95943.

d. Corning Library, Reference Section, 740 3rd Street, Corning, CA 96021.

e. Orland City Library, Reference Section, 333 Mill Street, Orland, CA 95963.

f. Willows Public Library, Reference Section, 201 North Lassen Street, Willows, CA 95988.

The entire DFR/DEIS-EIR may also be viewed on the U.S. Army Corps of Engineers, Sacramento District website at the following address: http://www.compstudy.org.

2. Commenting. Comments received in response to this report, including names and addresses of those who comment, will be considered part of the public record on this proposed action. Comments submitted anonymously will be accepted and considered. Pursuant to 7 CFR 1.27(d), any person may request the agency to withhold a submission from the public record by showing how the Freedom of Information (FOIA) permits such confidentiality. Persons requesting such confidentiality should be aware that under the FOIA, confidentiality may be granted in only very limited circumstances, such as to protect trade secrets. The Corps will inform the requester of the agency's decision regarding the request for confidentiality, and where the request is denied, the agency will return the submission and notify the requester that the comments may be resubmitted with or without the name and address.

Brenda S. Bowen,
Alternate Army Federal Register Liaison Officer.

[FR Doc. 04-7194 Filed 3-30-04; 8:45 am]

BILLING CODE 3710-E2-M